ENVIRONMENTAL PROTECTION AGENCY

[ER-FRL-9001-6]

Environmental Impacts Statements; Notice of Availability

Responsible Agency: Office of Federal Activities, General Information (202) 564-7146 or http://www.epa.gov/compliance/nepa/

Weekly receipt of Environmental Impact Statements

Filed 02/06/2012 Through 02/10/2012

Pursuant to 40 CFR 1506.9.

Notice

Section 309(a) of the Clean Air Act requires that EPA make public its comments on EISs issued by other Federal agencies. EPA's comment letters on EIS are available at: http://www.epa.gov/compliance/nepa/eisdata.html.

EIS No. 20120031, Final EIS, DOE, GA, ADOPTION—Vogtle Electric Generating Plant, Unit 3 and 4, Issuance a Loan Guarantee to Support Funding for Construction, Burke County, GA, Review Period Ends: 03/19/2012, Contact: Matthew McMillen 202-586-7248 The Department of Energy has adopted the Nuclear Regulatory Commission's FEIS 20080322 filed 08/15/2008 and FSEIS 20110088 filed 03/18/2011. DOE was not a Cooperating Agency on the above FEIS and FSEIS. Under Section 1506.3(b) of the CEQ Regulations, the FEIS must be recirculated for a 30-day Wait Period. This document is available on the Internet at: www.energy.gov/nepa.

EIS No. 20120032, Final EIS, NOAA, 00, Amendment 18A to the Fishery Management Plan for the Snapper-Grouper Fishery of the South Atlantic Region, To Limit Participation and Effort in the Black Sea Bass Pot Fishery, South Atlantic Region, NC, SC, FL, and GA, Review Period Ends: 03/19/2012, Contact: Dr. Roy E. Crabtree 727-824-5305.

EIS No. 20120033, Draft EIS, BLM, AZ, Restoration Design Energy Project, Identifying Lands Across Arizona Suitable for Renewable Energy Development, AZ, Comment Period Ends: 05/16/2012, Contact: Kathy Pedrick 602-417-9235.

EIS No. 20120034, Draft EIS, USFS, CA, Harris Vegetation Management Project, To Improve Forest Health and Restore Fire-Adapted Ecosystem Characteristic on National Forest System Land, Implementation, Shasta-McCloud Management Unit, Shasta-Trinity National Forest, Siskiyou County, CA, Comment Period Ends: 04/02/2012, Contact: Emelia Barnum 530-926-4511.

EIS No. 20120035, Draft EIS, USACE, NC, US 64 Improvements, Widening from Columbia to US 264 and Replacement of Lindsey C. Warren Bridge, USCG Bridge Permit, Tyrrell and Dare Counties, NC, Comment Period Ends: 04/02/2012, Contact: Bill Biddlecome 910-251-4558.

EIS No. 20120036, Draft EIS, FHWA, TN, SR-126 (Memorial Boulevard) Corridor Improvement Project, from East Center Street to Interstate 81, Funding, USACE Section 404 Permit, Sullivan County, TN, Comment Period Ends: 04/02/2012, Contact: Charles J. O'Neill 615-781-5770.

Amended Notices

EIS No. 20110353, Draft EIS, USFS, UT, Fishlake National Forest Oil and Gas Leasing Analysis Project, To Exploration, Development, and Production of Mineral and Energy Resources and Reclamation of Activities, Beaver, Garfield, Iron, Juab, Millard, Piute, Sanpete, Sevier, and Wayne Counties, UT, Comment Period Ends: 04/02/2012, Contact: Diane Freeman 435-896-1050. This document is available on the Internet at: http://fs.usda.gov/goto/fishlake/projects.

Revision to FR Notice Published 10/21/2011:

Re-opening Comment Period to End 4/2/2012 due to two appendices that was inadvertently not included in the Draft EIS.

EIS No. 20110438, Draft EIS, USFS, ID, Scriver Integrated Restoration Project, Improve Watershed Conditions by Reducing Road-Related Impacts to Wildlife, Fish, Soil, and Water Resources and Restoration of 2010 Forest Plan Vegetation Conditions, Emmett Ranger District, Boise National Forest, Boise and Valley Counties, ID, Comment Period Ends: 03/05/2012, Contact: Melissa Yenko 208-373-4245.

Revision to FR Notice Published 02/30/2011:

Extending Comment Period from 2/13/2012 to 3/5/2012.

Dated: February 14, 2012.
Cliff Rader,
Director, NEPA Compliance Division, Office of Federal Activities.

[FR Doc. 2012-3801 Filed 2-16-12; 8:45 am]

BILLING CODE 6560-50-P